GENERAL SERVICES ADMINISTRATION

[OMB Control No. 3090-0304]; [Docket No. 2016-0001; Sequence No. 6]

Submission for OMB Review; USA.gov and All Related Subdomains

AGENCY: The Technology Transformation Service, General Services Administration (GSA).

ACTION: Notice of request for comments regarding an extension to an existing OMB clearance.

SUMMARY: Under the provisions of the Paperwork Reduction Act, the Regulatory Secretariat Division will be submitting to the Office of Management and Budget (OMB) a request for comments regarding an existing OMB clearance concerning USA.gov and all related subdomains.

DATES: Submit comments on or before February 13, 2017.

ADDRESSES: Submit comments identified by Information Collection 3090-0304; USA.gov and All Related Subdomains by any of the following methods:

• Regulations.gov: http://www.regulations.gov. Submit comments via the Federal eRulemaking portal by searching the OMB control number 3090-0304. Select the link “Comment Now” that corresponds with “Information Collection 3090-0304; USA.gov and All Related Subdomains”. Follow the instructions provided at the “Submit a Comment” screen. Please include your name, company name (if any), and “Information Collection 3090-0304; USA.gov and All Related Subdomains” on your attached document.

• Mail: General Services Administration, Regulatory Secretariat Division (MVCB), 1800 F Street NW., Washington, DC 20405. ATTN: Ms. Flowers/ IC 3090-0304; USA.gov and All Related Subdomains.

Instructions: Please submit comments only and cite Information Collection 3090-0304; USA.gov and All Related Subdomains, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: John Yuda, Federal Citizen Information Center, GSA, telephone 202-306-9046 or via email at john.yuda@gsa.gov.

SUPPLEMENTARY INFORMATION:

A. Purpose

USA.gov and All Related Subdomains (https://www.USA.gov) provides an account to a user that gives them control over their interactions with government agencies and how Government uses and accesses their personal information. Users have the option of creating a personal profile that can be reused across government to personalize interactions and streamline common tasks such as filling out forms. Government agencies can build applications that can request permission from the user to access their account and read their personal profile.

The information in the system is contributed voluntarily by the user and cannot be accessed by the Government without explicit consent of the user; information is not shared between government agencies, except when the user gives explicit consent to share his or her information, and as detailed in the USA.gov and All Related Subdomains System of Records Notice (SORN), published in the Federal Register at 81 FR 4664 on July 18, 2016.

The information collected is basic profile information, and may include: Name, email address, home address, phone number, date of birth, gender, marital status and basic demographic information such as whether the individual is married, a veteran, a small business owner, a parent or a student. Use of the system, and contribution of personal information, is completely voluntary.

B. Annual Reporting Burden

Respondents: 10,000.

Responses per Respondent: 1.

Total Annual Responses: 10,000.

Hours per Response: .05.

Total Burden Hours: 500.

C. Public Comments

Public comments are particularly invited on: Whether this collection of information is necessary and whether it will have practical utility; whether our estimate of the public burden of this collection of information is accurate, and based on valid assumptions and methodology; ways to enhance the quality, utility, and clarity of the information to be collected.

Obtaining Copies of Proposals: Requesters may obtain a copy of the information collection documents from the General Services Administration, Regulatory Secretariat Division (MVCB), 1800 F Street NW., Washington, DC 20405, telephone 202-501-4755.

Please cite OMB Control No. 3090-0304, USA.gov and All Related Subdomains, in all correspondence.

Dated: January 4, 2017.
David A. Shive,
Chief Information Officer.

[FR Doc. 2017-00482 Filed 1-11-17; 8:45 am]

BILLING CODE 6820-34-P